DEPARTMENT OF JUSTICE

Drug Enforcement Administration

Kenneth S. Nave, M.D.; Denial of Application

On April 10, 2002, the Deputy Assistant Administrator, Office of Diversion Control, Drug Enforcement Administration (DEA), issued an Order to Show Cause to Kenneth S. Nave, M.D. (Dr. Nave) of Chicago, Illinois, notifying him of an opportunity to show cause as to why DEA should not deny his pending application for DEA Certificate of Registration, pursuant to 21 U.S.C. 823(f) for reason that such registration would be inconsistent with the public interest. The Order to Show Cause also notified Dr. Nave that should no request for a hearing be filed within 30 days, his hearing right would be deemed waived.

The Order to Show Cause was sent by certified mail to Dr. Nave at his proposed registered location in Chicago, Illinois. The order was returned to DEA on June 10, 2002 by the United States Postal Service indicating that it had been “unclaimed.” On June 11, 2002, DEA resent the show cause order to the same address by regular mail. The order was not returned. DEA has not received a request for hearing or any other reply from Dr. Nave or anyone purporting to represent him in this matter.

Therefore, the Deputy Administrator of DEA, finding that (1) thirty days having passed since the attempted delivery of the Order to Show Cause at the applicant's last known address, and (2) no requests for hearing having been received, concludes that Dr. Nave is deemed to have waived his hearing right. See David W. Linder, 67 FR 12579 (2002). After considering material from the investigative file in this matter, the Deputy Administrator now enters his final order without a hearing pursuant to 21 CFR 1301.43(d) and (e) and 1301.46.

The Deputy Administrator's review of the investigative file reveals that on January 3, 2002, the Illinois Medical Disciplinary Board (Board) issued its Findings of Fact, Conclusions of Law and Recommendation (Recommendation) to the Director of the State Department of Professional Regulation (Director). Following its finding of a “long history of chemical dependency with several relapses” the Board recommended the indefinite suspension of Dr. Nave's Physician and Surgeon's license for a period of one year. The Director adopted the Board's Recommendation and effective March 5, 2002, ordered the indefinite suspension of Dr. Nave's Physician and Surgeon's license as well as his Controlled Substance license for a minimum period of one year.

The Deputy Administrator's review of a DEA investigative report further revealed that as of April 3, 2003, Dr. Nave's Physician and Surgeon and Controlled Substance licenses remained suspended in the State of Illinois. As of the date of this final order, there is no evidence in the record that these licenses have been reinstated. Therefore, the Deputy Administrator's finds that Dr. Nave currently lacks state authorization to practice medicine and handle controlled substances in Illinois.

DEA does not have statutory authority under the Controlled Substances Act to issue a registration if the applicant is without state authority to handle controlled substances in the state in which he conducts business. See 21 U.S.C. 802(21), 823(f) and 824(a)(3). The Deputy Administrator and his predecessors have consistently so held. See Douglas L. Geiger, M.D., 67 FR 64418 (2002); Theodore T. Ambadgis, M.D., 58 FR 5759 (1993); Ihsan A. Karaagac, M.D., 51 FR 34694 (1986).

Here, it is clear that Dr. Nave is not licensed to handle controlled substances in Illinois, where he seeks registration with DEA. Therefore, he is not entitled to such registration. Because Dr. Nave lacks state authorization to handle controlled substances, the Deputy Administrator concludes that it is unnecessary to address whether or not his application for DEA registration should be denied based upon the public interest grounds asserted in the Order to Show Cause. See Samuel Silas Jackson, D.D.S., 67 FR 65145 (2002); Nathaniel-Aikens-Afful, M.D., 62 FR 16871 (1997); Sam F. Moore, D.V.M., 58 FR 14428 (1993).

Accordingly, the Deputy Administrator of the Drug Enforcement Administration, pursuant to the authority vested in him by 21 U.S.C. 823 and 824 and 28 CFR 0.100(b) and 0.104, hereby orders that the pending application for DEA Certification of Registration, submitted by Kenneth S. Nave, M.D., be, and it hereby is, denied. This order is effective June 9, 2003.

Dated: April 21, 2003.
John B. Brown III,
Deputy Administrator.

[FR Doc. 03-11432 Filed 5-7-03; 8:45 am]

BILLING CODE 4410-09-M